DEPARTMENT OF THE TREASURY

Submission for OMB Review; Comment Request

August 9, 2010.

The Department of the Treasury will submit the following public information collection requirement to OMB for review and clearance under the Paperwork Reduction Act of 1995, Public Law 104-13 on or after the date of publication of this notice. A copy of this submission may be obtained by calling the Treasury Department Office Clearance Officers listed. Comments regarding these information collections should be addressed to the OMB reviewer listed and to the Treasury PRA Clearance Officer, Department of the Treasury, 1750 Pennsylvania Avenue, NW., Suite 11010, Washington, DC 20220.

DATES: Written comments should be received on or before September 15, 2010 to be assured of consideration.

Office of Financial Stability (OFS)

OMB Number: 1505-0223.

Type of Review: Extension without change of a currently approved collection.

Title: Troubled Asset Relief Program—Community Development Capital Initiative (CDCI).

Description: This application will be used to request participation in the TARP Community Development Capital Initiative (CDCI). Under the CDCI, the U.S. Department of the Treasury may purchase qualifying assets from U.S. banking organizations that are certified Community Development Financial Institutions (CDFI). Any bank, savings association, bank holding company, savings and loan holding company, low-income designated credit union, subchapter S corporation, and mutual organization is eligible to participate if it is (i) certified by the Treasury's CDFI Fund as a CDFI; (ii) regulated by a Federal banking or credit union agency; and (iii) organized under the laws of the United States. Financial institutions that are controlled by a foreign entity will not be eligible.

Additionally, CDFIs that have participated in and have outstanding obligations under the TARP Capital Purchase Program (CPP) may apply to request an exchange of securities purchased under CPP by Treasury, for securities to be issued to Treasury under the CDCI. Eligibility to participate in the CDCI solely for purposes of exchanging outstanding obligations under CPP shall occur without regard to whether the institution seeks to participate in the CDCI for purposes of receiving additional capital. Institutions seeking additional capital under the CDCI shall submit a separate application for that purpose.

Respondents: Private Sector: Businesses or other for-profit institutions.

Estimated Total Reporting Burden: 400 hours.

OFS Clearance Officer: Daniel Abramowitz, OFS, 1801 L Street, NW., Washington, DC 20036; (202) 927-9645.

OMB Reviewer: Shagufta Ahmed, Office of Management and Budget, New Executive Office Building, Room 10235, Washington, DC 20503; (202) 395-7873.

Dawn D. Wolfgang,
Treasury PRA Clearance Officer.

[FR Doc. 2010-20066 Filed 8-13-10; 8:45 am]

BILLING CODE 4810-25-P